ENVIRONMENTAL PROTECTION AGENCY

[FRL-9967-43-Region 2]

Notice of Reopening of Public Comment Period on the Clean Water Act Section 303(d): Availability of List Decisions

AGENCY: Environmental Protection Agency.

ACTION: Reopening of comment period.

SUMMARY: The Environmental Protection Agency (EPA) is reopening the public comment period on the “Clean Water Act Section 303(d): Availability of List Decisions.” In response to stakeholder requests, EPA is reopening the comment period October 12, 2017.

DATES: The comment period for the notice that was published on August 9, 2017 (82 FR 37214) is reopened. Comments must be submitted to EPA until October 12, 2017.

ADDRESSES: Submit your comments, identified by Docket ID No. FRL-9965-72-Region 2, to Aimee Boucher, U.S. Environmental Protection Agency Region 2, 290 Broadway, New York, NY 10007, email boucher.aimee@epa.gov, telephone (212)-637-3837. Oral comments will not be considered. Copies of EPA's letter and support document regarding New York's list can be obtained by calling or emailing Ms. Boucher at the address above. Underlying documents from the administrative record for these decisions are available for public inspection at the above address. Please contact Ms. Boucher to schedule an inspection.

FOR FURTHER INFORMATION CONTACT: Aimee Boucher at (212) 637-3837 or at boucher.aimee@epa.gov.

SUPPLEMENTARY INFORMATION: On August 9, 2017, EPA published in the Federal Register (82 FR 37214) a notice and request for comment on EPA's proposed decision to add 71 waterbody/pollutant combinations to New York's 2016 303(d) list. EPA will consider public comment before transmitting its final listing decision to the State. The proposed decision, as initially published in the Federal Register, provided for written comments to be submitted to EPA on or before September 8, 2017 (a 30-day public comment period). Since publication, EPA has received a request for additional time to submit comments. EPA is reopening the public comment period until October 12, 2017.

Dated: August 25, 2017.
Catherine McCabe,
Acting Regional Administrator, U.S. Environmental Protection Agency, Region 2.

[FR Doc. 2017-19350 Filed 9-11-17; 8:45 am]

BILLING CODE 6560-50-P